DEPARTMENT OF ENERGY

Federal Energy Regulatory Commission

[Docket No. ER01-946-001]

Doyle I, L.L.C.; Notice of Filing

February 27, 2001.

Take notice that on February 16, 2001, Doyle I, L.L.C. (Doyle), tendered for filing a supplemental letter to denote typographical errors in its January 12, 2001 filing, as well as to update the cost support included in the filing. On January 12, 2001, Doyle filed with the Commission a revised cost-based rate to its FERC Electrric Rate Schedule No. 1, the Power Purchase and Sale Agreement, as amended (PPSA), executed by Doyle and Oglethorpe Power Corporation (an electric membership corporation), on May 25, 1999 (Rate Schedule). Doyle adjusted a rate under its Rate Schedule, as agreed-to by the parties to the PPSA, to reflect the change in the Producer Price Index (PPI) for calendar year 2000.

Copies of the filing were served upon Oglethorpe and on the Georgia Public Service Commission.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before March 9, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at ­http://www.ferc.fed.us/efi/doorbell.htm.

Linwood A. Watson, Jr.,
Acting Secretary.

[FR Doc. 01-5239 Filed 3-2-01; 8:45 am]

BILLING CODE 6717-01-M